DEPARTMENT OF THE INTERIOR

National Park Service

[NPS-WASO-NAGPRA-NPS0028960; PPWOCRADN0-PCU00RP14.R50000]

Notice of Inventory Completion: Cochise College, Douglas, AZ

AGENCY: National Park Service, Interior.

ACTION: Notice.

SUMMARY: Cochise College has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to Cochise College. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to Cochise College at the address in this notice by November 12, 2019.

ADDRESSES: Rebecca Orozco, Cochise College, 4190 West Highway 80, Douglas, AZ 85607, telephone (520) 515-3697, email orozcor@cochise.edu.

SUPPLEMENTARY INFORMATION: Notice is here given in accordance with the Native American Graves Protection and Repatriation Act (NAGPRA), 25 U.S.C. 3003, of the completion of an inventory of human remains and associated funerary objects under the control of Cochise College, Douglas, AZ. The human remains and associated funerary objects were removed from archeological sites in Cochise County, AZ.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by Cochise College professional staff in consultation with representatives of the Cocopah Tribe of Arizona; Colorado River Indian Tribes of the Colorado River Indian Reservation, Arizona and California; Fort McDowell Yavapai Nation, Arizona; Fort Mohave Indian Tribe of Arizona, California & Nevada; Fort Sill Apache Tribe of Oklahoma; Gila River Indian Community of the Gila River Indian Reservation, Arizona; Havasupai Tribe of the Havasupai Reservation, Arizona; Hopi Tribe of Arizona; Hualapai Indian Tribe of the Hualapai Indian Reservation, Arizona; Mescalero Apache Tribe of the Mescalero Reservation, New Mexico; Navajo Nation, Arizona, New Mexico & Utah; Pascua Yaqui Tribe of Arizona; Pueblo of Acoma, New Mexico; Pueblo of Laguna, New Mexico; Salt River Pima-Maricopa Indian Community of the Salt River Reservation, Arizona; San Carlos Apache Tribe of the San Carlos Reservation, Arizona; Tohono O'odham Nation of Arizona; Tonto Apache Tribe of Arizona; White Mountain Apache Tribe of the Fort Apache Reservation, Arizona; Yavapai-Apache Nation of the Camp Verde Indian Reservation, Arizona; Yavapai-Prescott Indian Tribe (previously listed as the Yavapai-Prescott Tribe of the Yavapai Reservation, Arizona); and the Zuni Tribe of the Zuni Reservation, New Mexico (hereafter referred to as “The Tribes”).

History and Description of the Remains

From 1968 to 1969, human remains representing, at minimum, four individuals were removed from site AZ:FF:8:9 (Price Canyon Ranch), in Cochise County, AZ, as part of a Cochise College archeological field school. Burial #1-A consists of two fragmentary mandibular rami from a 3-5 year old child. Burial #1-B consists of post cranial remains of a 5-7 year old child. Burial #1-C consists of the charred fragments of the cranial vault, left mandibular Ml and fragments of the right illium, both humeri, both scapulae, the right clavicle and the right femur of a 7-9 year old child. Burial #1-D consists of the skeletal human remains of an adult male's mandible with much of the mandibular body missing. The human remains were analyzed by T.M.J. Mulinski and Dr. Walter Birkby from the Arizona State Museum, Human Identification Laboratory in 1971. No known individuals were identified. No associated funerary objects are present.

From 1969 to 1971, human remains representing, at minimum, three individuals were removed from site AZ:FF:7:2 (the San Bernardino site), in Cochise County, AZ, as part of a Cochise College archeological field school. Burial #1 is the incomplete skeleton of a male, 30-40 years old. Burial #2 is the flexed incomplete skeleton of a female, approximately 25 years old. Burial #3 is the flexed incomplete skeleton of a male, 20-35 years old. No known individuals were identified.

In 1970, human remains representing, at minimum, one individual were removed from site AZ:EE:12:1 in Cochise County, AZ, by an unknown individual. The burial contained the extended, incomplete skeletal remains of a female, 18-24 years old. This individual had previously been removed from a Preceramic site on state land in Cochise County leased to the S O Ranch. No known individual was identified.

In 1970, human remains representing, at minimum, one individual were removed from site AZ:CC:15:1, Chiricahua Cave in the Colorado National Forest in Cochise County, AZ. The human remains were found by weekend explorers. In 1970, portions of a human skull and mandible, plus other bones, were given to Cochise College. No known individual was identified.

Sometime before 1970, human remains representing, at minimum one individual were removed from an unknown location in Cochise County, AZ. The human remains—a small amount of calcined human bones—were enclosed in a burial urn. A local rancher found this pot (tentatively identified as Pantano Red on Brown) on the surface, just east of the Mule Mountains in the Sulphur Springs Valley, and donated it to Cochise College in 1970. No known individual was identified. The one associated funerary object is the burial urn.

Sometime before 1970, human remains representing, at minimum, one individual were removed from an unknown location in Cochise County, AZ. The human remains, labeled “Kambitch Bones,” appear to have been given to Cochise College in 1970 from a ranch located northeast of Douglas, AZ. No known individual was identified. No associated funerary objects are present.

Sometime before 1980, human remains representing, at minimum, one individual were removed from an unknown location near the San Pedro River in Cochise County, AZ, by local residents. In 1980, the calcinated human remains and the plain brownware burial urn containing them were donated to Cochise College. No known individual was identified. The one associated funerary object is the burial urn.

Between 1982 to 1987, human remains representing, at minimum, one individual were removed from site AZ:FF:7:10 (Boss Ranch site), in Cochise County, AZ, as part of a Cochise College archeological field school. The burial was located under the floor of Room 7 in the Northwest Corner structure. The burial contained a flexed, incomplete skeleton lying on the left side. The individual is probably male, 15-18 years old. No known individual was identified. No associated funerary objects are present.

At an unknown date, human remains representing, at minimum, one individual were removed from an unknown location, most probably within Cochise County, AZ. No information has been found on this set of human remains. No known individual was identified. No associated funerary objects are present.

Determinations Made by Cochise College

Officials of Cochise College have determined that:

• Pursuant to 25 U.S.C. 3001(9), the human remains described in this notice are Native American based on archeological investigations carried out by other entities in the region.

• Pursuant to 25 U.S.C. 3001(9), the human remains described in this notice represent the physical remains of 14 individuals of Native American ancestry.

• Pursuant to 25 U.S.C. 3001(3)(A), the two objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Treaties, Acts of Congress, or Executive Orders, indicate that the land from which the Native American human remains and associated funerary objects were removed is the aboriginal land of The Tribes.

• Pursuant to 43 CFR 10.11(c)(2)(i), the disposition of the human remains and associated funerary objects may be to The Tribes.

Additional Requestors and Disposition

Representatives of any Indian Tribe or Native Hawaiian organization not identified in this notice that wish to request transfer of control of these human remains and associated funerary objects should submit a written request with information in support of the request to Rebecca Orozco, Cochise College, 4190 West Highway 80, Douglas, AZ 85607, telephone (520) 515-3697, email orozcor@cochise.edu, by November 12, 2019. After that date, if no additional requestors have come forward, transfer of control of the human remains and associated funerary objects to The Tribes may proceed.

Cochise College is responsible for notifying The Tribes that this notice has been published.

Dated: September 20, 2019.
Melanie O'Brien,
Manager, National NAGPRA Program.

[FR Doc. 2019-22167 Filed 10-9-19; 8:45 am]

BILLING CODE 4312-52-P